DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of October 2, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: August 10, 2015.
Roy E. Wright,
Deputy Associate Administrator for Insurance and Mitigation, Department of Homeland Security, Federal Emergency Management Agency.

I. Watershed-based studies:

Community | Community map repository address
Narragansett HUC8 Watershed
Kent County, Rhode Island (All Jurisdiction)
Docket No.: FEMA-B-1434
City of Warwick | Planning Department, 3275 Post Road, Warwick, RI 02886.
Town of Coventry | Department of Public Works, 1675 Flat River Road, Coventry, RI 02816.
Town of East Greenwich | Department of Public Works, 111 Pierce Street, East Greenwich, RI 02818.
Town of West Warwick | Town Hall, 1170 Main Street, West Warwick, RI 02893.
Providence County, Rhode Island (All Jurisdictions)
Docket No.: FEMA-B-1434
City of Central Falls | City Hall, 580 Broad Street, Central Falls, RI 02863.
City of Cranston | City Hall, 869 Park Avenue, Cranston, RI 02910.
City of East Providence | City Hall, 145 Taunton Avenue, East Providence, RI 02914.
City of Pawtucket | Department of Planning and Development, 175 Main Street, Pawtucket, RI 02860.
City of Providence | City Administration Building, 444 Westminster Street, Providence, RI 02903.
Town of Cumberland | Department of Public Works, 45 Broad Street, Cumberland, RI 02864.
Town of Johnston | Town Hall, 1385 Hartford Avenue, Johnston, RI 02919.
Town of Lincoln | Town Hall, 100 Old River Road, Lincoln, RI 02865.
Town of North Providence | Department of Public Works, Two Mafalda Street, North Providence, RI 02911.
Town of North Smithfield | Town Hall, One Main Street, Slatersville, RI 02876.
Town of Scituate | Town Hall, 195 Danielson Pike, North Scituate, RI 02857.
Town of Smithfield | Town Hall, 64 Farnum Pike, Smithfield, RI 02917.
Lower Wisconsin River Watershed
Sauk County, Wisconsin, and Incorporated Areas
Docket No.: FEMA-B-1426
Unincorporated Areas of Sauk County | West Square Building, 505 Broadway, Baraboo, WI 53913.
Village of Prairie Du Sac | Village Hall, 335 Galena Street, Prairie du Sac, WI 53578.
Village of Sauk City | Village Hall, 726 Water Street, Sauk City, WI 53583.
Village of Spring Green | Village Hall, 154 North Lexington Street, Spring Green, WI 53588.

II. Non-watershed-based studies:

Community | Community map repository address
Carroll County, Maryland, and Incorporated Areas
Docket No.: FEMA-B-1246
City of Taneytown | City Hall, 17 East Baltimore Street, Taneytown, MD 21787.
City of Westminster | City Hall, 56 West Main Street, Westminster, MD 21157.
Town of Hampstead | Town Hall, 1034 South Carroll Street, Hampstead, MD 21074.
Town of Manchester | Town Hall, 3208 York Street, Manchester, MD 21102.
Town of Mount Airy | Town Hall, 110 South Main Street, Mount Airy, MD 21771.
Town of New Windsor | Town Hall, 211 High Street, New Windsor, MD 21776.
Town of Sykesville | Town Hall, 7457 Main Street, Sykesville, MD 21784.
Town of Union Bridge | Town Hall, 104 West Locust Street, Union Bridge, MD 21791.
Unincorporated Areas of Carroll County | Carroll County Office Building, 225 North Center Street, Westminster, MD 21157.
Knox County, Nebraska, and Incorporated Areas
Docket No.: FEMA-B-1415
City of Bloomfield | City Hall, 101 South Broadway, Bloomfield, NE 68718.
City of Crofton | City Hall, 1210 West 2nd Street, Crofton, NE 68730.
Unincorporated Areas of Knox County | Knox County Courthouse, 206 Main Street, Center, NE 68724.

[FR Doc. 2015-21699 Filed 9-1-15; 8:45 am]

BILLING CODE 9110-12-P